DEPARTMENT OF THE TREASURY

Alcohol and Tobacco Tax and Trade Bureau

27 CFR Parts 40 and 275

[T.D. TTB-4; ATF Notice No. 962]

RIN 1513-AA18

Elimination of Statistical Classes for Large Cigars (2000R-410P)

AGENCY: Alcohol and Tobacco Tax and Trade Bureau (TTB), Treasury.

ACTION: Final rule (Treasury Decision).

SUMMARY: This final rule removes the eight statistical classes for large cigars prescribed in TTB regulations. Since tobacco manufacturers and importers no longer use these statistical classes to report removals of large cigars subject to tax, this final rule eliminates obsolete regulations.

DATES: The effective date of this final rule is August 21, 2003.

FOR FURTHER INFORMATION CONTACT: Robert Ruhf, Regulations and Procedures Division, Alcohol and Tobacco Tax and Trade Bureau, 650 Massachusetts Avenue NW., Washington, DC 20226 (telephone: 202-927-8210 or e-mail: ttbquestions@ttb.gov.

SUPPLEMENTARY INFORMATION:

ATF-TTB Transition

Effective January 24, 2003, the Homeland Security Act of 2002 divided the Bureau of Alcohol, Tobacco and Firearms (ATF) into two new agencies, the Alcohol and Tobacco Tax and Trade Bureau (TTB) in the Department of the Treasury and the Bureau of Alcohol, Tobacco, Firearms, and Explosives in the Department of Justice. The taxation of tobacco products remains a Department of the Treasury function and is the responsibility of TTB. References to the former ATF and the new TTB in this document reflect the time frame, before or after January 24, 2003.

Final Rule Background

On November 5, 2002, ATF published a notice of proposed rulemaking in the Federal Register (ATF Notice No. 962, 67 FR 67340) to solicit comments about the elimination of obsolete tobacco regulations in 27 CFR parts 40 and 275. These regulations prescribed eight statistical classes for large cigars subject to tax. The first seven classes (Classes A through G) covered large cigars selling for $235.294 or less per thousand, while the eighth class (Class H) covered those selling for more than $235.294 per thousand.

Since January 1, 2001, manufacturers of tobacco products report information about large cigars subject to tax in two statistical classes. Tobacco importers also no longer use these eight statistical classes. The reduction in the number of statistical classes reduces industry's reporting burden, but does not jeopardize our ability to protect the revenue or adversely affect our compilation of tobacco statistics for use by governments and the public.

We did not receive any comments on ATF Notice No. 962. For these reasons and those discussed in the notice, we are issuing this final rule.

Regulatory Requirements

Regulatory Flexibility Act

We certify that this final rule will not have a significant economic impact on a substantial number of small entities. Consequently, the provisions of the Regulatory Flexibility Act (5 U.S.C. 601 et seq.) do not apply. In accordance with 26 U.S.C. 7805(f), we sent the notice of proposed rulemaking to the Chief Counsel for Advocacy of the Small Business Administration.

Executive Order 12866

We have determined that this rule is not a significant regulatory action as defined by Executive Order 12866. Therefore, a regulatory assessment is not required.

Paperwork Reduction Act

The Paperwork Reduction Act of 1995, 44 U.S.C. chapter 35, and its implementing regulations, 5 CFR part 1320, do not apply to this final rule because it does not impose a collection of information.

Administrative Procedure Act

In accordance with the provisions of 5 U.S.C. 553(d), we made the effective date of this final rule 30 days after its publication in the Federal Register.

List of Subjects

27 CFR Part 40

Administrative practice and procedure, Authority delegations, Cigars and cigarettes, Claims, Electronic fund transfers, Excise taxes, Imports, Labeling, Packaging and containers, Penalties, Reporting and recordkeeping requirements, Seizures and forfeitures, Surety bonds, Tobacco.

27 CFR Part 275

Administrative practice and procedure, Authority delegations, Cigarette papers and tubes, Claims, Electronic fund transfer, Customs duties and inspection, Excise taxes, Imports, Labeling, Packaging and containers, Penalties, Reporting requirements, Seizures and forfeitures, Surety bonds, Tobacco products, U.S. possessions, Warehouses.

Authority and Issuance

Title 27, Code of Federal Regulations, is amended as follows:

PART 40—MANUFACTURE OF TOBACCO PRODUCTS AND CIGARETTE PAPERS AND TUBES

Paragraph 1. The authority citation for part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§ 40.203 [Removed and reserved]

Par. 2. Section 40.203 is removed and reserved.

PART 275—IMPORTATION OF TOBACCO PRODUCTS AND CIGARETTE PAPERS AND TUBES

Par 3. The authority citation for part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

§ 275.37 [Removed and Reserved]

Par. 4. Section 275.37 is removed and reserved.

Signed: April 11, 2003.
Arthur J. Libertucci,
Administrator.

Approved: June 4, 2003.
Timothy E. Skud,
Deputy Assistant Secretary, (Tax, Trade, and Tariff Policy).

[FR Doc. 03-18564 Filed 7-21-03; 8:45 am]

BILLING CODE 4810-31-P